DEPARTMENT OF THE TREASURY

Alcohol and Tobacco Tax and Trade Bureau

27 CFR Parts 4, 5, 7, and 24

[Notice No. 75; Re: Notice No. 73]

RIN 1513-AB07

Labeling and Advertising of Wines, Distilled Spirits and Malt Beverages; Comment Period Extension

AGENCY: Alcohol and Tobacco Tax and Trade Bureau, Treasury.

ACTION: Notice of proposed rulemaking; extension of comment period.

SUMMARY: In response to an industry member request, the Alcohol and Tobacco Tax and Trade Bureau extends the comment period for Notice No. 73, Labeling and Advertising of Wines, Distilled Spirits, and Malt Beverages, a notice of proposed rulemaking published in the Federal Register on July 31, 2007, for an additional 90 days.

DATES: Written comments must be received on or before January 27, 2008.

ADDRESSES: You may send comments on this notice to one of the following addresses:

• http://www.regulations.gov (Federal e-rulemaking portal; follow the instructions for submitting comments); or

• Director, Regulations and Rulings Division, Alcohol and Tobacco Tax and Trade Bureau, P.O. Box 14412, Washington, DC 20044-4412.

You may view copies of this notice, Notice No. 73, and any comments we receive about the proposals described in Notice No. 73 under the appropriate docket number on the Regulations.gov Web site at http://www.regulations.gov. A link to the Regulations.gov Web site is also available on the TTB Web site at http://www.ttb.gov/regulations_laws/all_rulemaking.shtml. In addition, you may view copies of the same materials described above by appointment at the TTB Information Resource Center, 1310 G Street, NW., Washington, DC 20220. To make an appointment, telephone (202) 927-2400.

FOR FURTHER INFORMATION CONTACT: Lisa M. Gesser, Regulations and Rulings Division, Alcohol and Tobacco Tax and Trade Bureau, P.O. Box 128, Morganza, MD 20660; telephone (301) 290-1460; or Joanne C. Brady, Regulations and Rulings Division, Alcohol and Tobacco Tax and Trade Bureau, P.O. Box 45797, Philadelphia, PA 19149; telephone (215) 333-7050.

SUPPLEMENTARY INFORMATION: On July 31, 2007, The Alcohol and Tobacco Tax and Trade Bureau (TTB) published Notice No. 73, Labeling and Advertising of Wines, Distilled Spirits, and Malt Beverages, in the Federal Register (72 FR 41860). In that notice of proposed rulemaking, TTB requests public comment on possible changes to the labeling and advertising requirements of alcohol beverage products regulated by TTB. When published, the comment period for TTB Notice No. 73 was scheduled to close on October 29, 2007.

After the publication of Notice No. 73, TTB received a request from Wine America, a national association of American wineries to extend the comment period for an additional 90 days beyond the October 29, 2007 closing date. In support of their extension request, Wine America indicates that the wine industry is now entering the grape harvest season, which is its busiest time of the year. They further note that because of this, wine industry members would not have adequate time to address the rulemaking comment request in a comprehensive manner.

In response to this request, TTB extends the comment period for Notice No. 73 for an additional 90 days. Therefore, comments on Notice No. 73 are now due on or before January 27, 2008.

Drafting Information

Lisa M. Gesser of the Regulations and Procedures Division drafted this notice.

Signed: September 10, 2007.
John J. Manfreda,
Administrator.

[FR Doc. E7-18510 Filed 9-19-07; 8:45 am]

BILLING CODE 4810-31-P